SECURITIES AND EXCHANGE COMMISSION

[Release No. 34-75457; File No. SR-EDGX-2015-08]

Self-Regulatory Organizations; EDGX Exchange, Inc.; Notice of Withdrawal of Proposed Rule Change, as Modified by Amendment No. 1, To Amend Rules 11.6, 11.8, 11.9, 11.10 and 11.11 of EDGX Exchange, Inc.

July 15, 2015.

On February 20, 2015, EDGX Exchange, Inc. (“Exchange” or “EDGX”) filed with the Securities and Exchange Commission (“Commission”), pursuant to Section 19(b)(1) of the Securities Exchange Act of 1934 (“Act”) ¹ and Rule 19b-4 thereunder,² a proposed rule change to amend Rules 11.6, 11.8, 11.9, 11.10 and 11.11 to clarify and to include additional specificity regarding the current functionality of the Exchange's system, including the operation of its order types and order instructions. On February 27, 2015, the Exchange filed Amendment No. 1 to the proposal.³ The proposed rule change, as modified by Amendment No. 1, was published for comment in the Federal Register on March 10, 2015.⁴ On April 17, 2015, the Commission extended the time period in which to either approve or disapprove the proposed rule change, as modified by Amendment No. 1, to June 8, 2015.⁵ The Commission received no comment letters on the proposed rule change, as modified by Amendment No. 1. On June 5, 2015, EDGX withdrew the proposed rule change, as modified by Amendment No. 1 (SR-EDGX-2015-08).

¹ 15 U.S.C. 78s(b)(1).

² 17 CFR 240.19b-4.

³ Amendment No. 1 replaced SR-EDGX-2015-08 and superseded such filing in its entirety.

⁴ See Securities Exchange Act Release No. 74439 (March 4, 2015), 80 FR 12666.

⁵ See Securities Exchange Act Release No. 74762 (April 17, 2015), 80 FR 22753 (April 23, 2015).

⁶ 17 CFR 200.30-3(a)(12).

For the Commission, by the Division of Trading and Markets, pursuant to delegated authority.⁶
Robert W. Errett,
Deputy Secretary.

[FR Doc. 2015-17756 Filed 7-20-15; 8:45 am]

BILLING CODE 8011-01-P